ENVIRONMENTAL PROTECTION AGENCY

[EPA-HQ-OPP-2005-0252; FRL-9370-2]

Iodomethane; Notice of Receipt of Request to Voluntarily Cancel Iodomethane Pesticide Registrations and Amend a Registration

AGENCY: Environmental Protection Agency (EPA).

ACTION: Notice.

SUMMARY: In accordance with the Federal Insecticide, Fungicide, and Rodenticide Act (FIFRA), EPA is issuing a notice of receipt of a request by the registrant to voluntarily cancel the registrations of products containing the pesticide iodomethane. In addition, the registrant has amended the terms and conditions of registration for their iodomethane technical product so that as of January 1, 2013, Arysta LifeScience North America, LLC (Arysta) will not sell or distribute this product unless it bears a label statement. The registrant's request would terminate the last iodomethane products registered for use in the United States. EPA intends to grant this request at the close of the comment period for this announcement unless the Agency receives substantive comments within the comment period that would merit its further review of the request. If EPA issues a final order granting this request, the sale, distribution, or use of the products listed in this notice will be permitted only in accordance with the terms as described in the final order.

DATES: Comments must be received on or before December 21, 2012.

ADDRESSES: Submit your comments, identified by docket identification (ID) number EPA-HQ-OPP-2005-0252, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Andrea Mojica, Pesticide Re-evaluation Division (7508P), Office of Pesticide Programs, Environmental Protection Agency, 1200 Pennsylvania Ave. NW., Washington, DC 20460-0001; telephone number: (703) 308-0122; fax number: (703) 308-8090; email address: mojica.andrea@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests To Cancel

This notice announces receipt by EPA of a request from Arysta to cancel all of its iodomethane product registrations. Iodomethane is a pre-plant soil fumigant used to control pests in soil where fruits, vegetables, ornamental plants, and turf will be grown. In a Memorandum of Agreement (MOA), Arysta and EPA agreed to cancel and amend the pesticide product registrations identified in Tables 1 and 2 of Unit III. Specifically, the MOA contains Arysta's irrevocable request that its end-use products, EPA Registration Numbers 66330-43, 66330-57, 66330-58, 66330-59, and 66330-60, will be canceled effective December 31, 2012, and that its iodomethane technical product, EPA Registration Number 66330-44 will be canceled effective December 1, 2015. The MOA also adds a condition of registration to the technical product's registration that as of January 1, 2013, Arysta will not sell or distribute this product unless its label bears the following statement:

It is unlawful to use this product for any purpose in the United States, except for formulation of products intended for export consistent with the requirements of FIFRA section 17.

(The request for amendment is conditioned on the issuance of a cancellation order including the requested effective dates and existing stocks provisions.) Granting the registrant's cancellation request would terminate the last iodomethane products registered in the United States.

III. What action is the agency taking?

This notice announces receipt by EPA of the request to cancel the iodomethane product registrations described in Unit II. The affected products and the registrant making the requests are identified in Tables 1-3 of this unit.

Unless the Agency receives substantive comments in response to this notice that warrant further review of this request, EPA intends to issue an order canceling the affected registrations on the requested effective dates.

Table 1—Iodomethane Product Registrations With Pending Requests for Cancellation
Registration No. | Product name | Company
66330-43 | Midas 98:2 | Arysta LifeScience North America, LLC.
66330-44 | Iodomethane Technical | Arysta LifeScience North America, LLC.
66330-57 | Midas 50:50 | Arysta LifeScience North America, LLC.
66330-58 | Midas EC Bronze | Arysta LifeScience North America, LLC.
66330-59 | Midas 33:67 | Arysta LifeScience North America, LLC.
66330-60 | Midas EC Gold | Arysta LifeScience North America, LLC.

Table 2—Iodomethane Product Registration With Pending Requests for Amendment
Registration No. | Product name | Company
66330-44 | Iodomethane Technical | Arysta LifeScience North America, LLC.

Table 3 of this unit includes the name and address of record for the registrant of the products listed in Table 1 and Table 2 of this unit. This number corresponds to the first part of the EPA registration numbers of the products listed in Table 1 and Table 2 of this unit.

Table 3—Registrant Requesting Voluntary Cancellation and Amendments
EPA Company No. | Company name and address
66330 | Arysta LifeScience North America, 15401 Weston Parkway, Suite 150, Cary, NC 27513.

IV. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The iodomethane registrant has requested that EPA waive the 180-day comment period. Accordingly, EPA will provide a 30-day comment period on the proposed requests.

V. Provisions for Disposition of Existing Stocks

Existing stocks are those stocks of registered pesticide products that are currently in the United States and that were packaged, labeled, and released for shipment prior to the effective date of the action. If the request for voluntary cancellation is granted, the Agency intends to publish the cancellation order in the Federal Register. EPA intends to include in any such final order the following provisions for the treatment of any existing stocks of the product(s) listed in Tables 1 and 2 of Unit III.

In any final order granting Arysta's request for voluntary cancellation of its iodomethane technical/manufacturing-use product registration, as of the effective date of the cancellation order, all sale and distribution of existing stocks of Arysta's iodomethane technical/manufacturing-use product by Arysta shall be prohibited unless the sale or distribution is for proper disposal or is solely for purposes of export consistent with the requirements of section 17 of FIFRA. In any final order granting Arysta's request for voluntary cancellation of end-use product registrations:

1. As of the effective date of the cancellation order, Arysta is prohibited from distributing or selling existing stocks of end-use products, unless the sale or distribution is for proper disposal, or is solely for export consistent with the requirements of FIFRA section 17;

2. As of the effective date of the cancellation order, persons other than Arysta are prohibited from distributing or selling existing stocks of Arysta's end-use products, unless the sale or distribution is for proper disposal, return to Arysta, or is intended solely for export consistent with the requirements of FIFRA section 17; and

3. As of the effective date of the cancellation order, no person may use any existing stocks of any of Arysta's end-use products.

List of Subjects

Environmental protection, Pesticides and pests.

Dated: November 14, 2012.
Richard P. Keigwin, Jr.
Director, Pesticide Re-evaluation Division, Office of Pesticide Programs.

[FR Doc. 2012-28210 Filed 11-20-12; 8:45 am]

BILLING CODE 6560-50-P